DEPARTMENT OF THE INTERIOR

National Park Service

National Capital Region; Comment Request

ACTION: Notice/Request for Comments—The Christmas Pageant of Peace.

SUMMARY: The National Park Service is seeking public comments and suggestions on the planning of the 2002 Christmas Pageant of Peace.

SUPPLEMENTARY INFORMATION: The National Park Service is seeking public comments and suggestions on the planning of the 2002 Christmas Pageant of Peace, which opens on December 5, on the Ellipse (President's Parks), south of the White House. The meeting will be held at 10 a.m., on November 19, 2002, in Room 234 of the National Capital Region Building, at 1100 Ohio Drive, SW., Washington, DC (East Potomac Park).

Due to ongoing organizations realignments, the notice could not be published at least 15 days prior to the meeting date. The National Park Service regrets this error, but is compelled to hold the meeting as scheduled because of the high level of anticipation by all parties who will be participating in the planning of this event. Since the proposed meeting date has received widespread publicity among the parties most affected, the National Park Service believes that the public interest will not be adversely affected by the less-than-15-days advance notice in the Federal Register.

Persons who would like to comment at the meeting should notify the National Park Service by November 15, 2002 by calling the White House Visitor Center weekdays between 9 a.m., and 4 p.m., at (202) 208-1631. Written comments may be sent to the Park Manager, White House Visitor Center 1100 Ohio Drive, SW., Washington, DC 20242, and can be accepted until November 18, 2002.

DATES: The meeting will be held on Tuesday, November 19. Written comments will be accepted until Monday, November 18, 2002.

ADDRESSES: The meeting will be held at 10 a.m. on November 19, in room 234 of the National Capital Region Building, at 1100 Ohio Drive, SW., Washington, DC (East Potomac Park). Written comments may be sent to the Park Manager, White House Visitor Center 1100 Ohio Drive, SW., Washington, DC 20242. It is recommended, due to delays in mail delivery, that comments be provided by telefax at 202-619-6353 or by email at stanley_lock@nps.gov. Comments may also be delivered by messenger to Room 344, National Park Service, 1100 Ohio Drive, SW., Washington, DC 20242.

FOR FURTHER INFORMATION CONTACT: Park Manager Rachel Frantum at the White House Visitor Center weekdays between 9 a.m., and 4 p.m., at (202) 208-1631.

Dated: November 7, 2002.
Stan Lock,
Deputy Director, White House Liaison.

[FR Doc. 02-29027 Filed 11-13-02; 8:45 am]

BILLING CODE 4310-70-M